DEPARTMENT OF HEALTH AND HUMAN SERVICES

Administration for Children and Families

Refugee Resettlement Program; Proposed Availability of Formula Allocation Funding for FY 2000 Targeted Assistance Grants for Services to Refugees in Local Areas of High Need

AGENCY: Office of Refugee Resettlement (ORR), ACF, HHS.

ACTION: Notice of proposed availability of formula allocation funding for FY 2000 targeted assistance grants to States for services to refugees in local areas of high need.

SUMMARY: This notice announces the proposed availability of funds and award procedures for FY 2000 targeted assistance grants for services to refugees under the Refugee Resettlement Program (RRP). These grants are for service provision in localities with large refugee populations, high refugee concentrations, and high use of public assistance, and where specific needs exist for supplementation of currently available resources.

This notice continues the eligibility of those 50 counties located in 29 States that previously qualified for and received targeted assistance program (TAP) grants beginning in FY 1999 as a result of the three-year qualification process. The FY 2000 TAP formula allocations are based on the same formula as in FY 1999, updated to reflect arrivals during the five-year period from FY 1995 through FY 1999.

DATES: Comments on this notice must be received by May 31, 2000.

ADDRESSES: Address written comments, in duplicate, to: Gayle A. Smith, Office of Refugee Resettlement, Administration for Children and Families, 370 L'Enfant Promenade, S.W., Washington, D.C. 20447.

Application Deadline: The deadline for applications will be established by the final notice. Applications should not be sent in response to this notice of proposed allocations.

FOR FURTHER INFORMATION CONTACT: Gayle Smith, Director, Division of Refugee Self-Sufficiency, (202) 205-3590.

SUPPLEMENTARY INFORMATION:

I. Purpose and Scope

This notice announces the proposed availability of funds for grants for targeted assistance for services to refugees in counties where, because of factors such as unusually large refugee populations, high refugee concentrations, and high use of public assistance, there exists and can be demonstrated a specific need for supplementation of resources for services to this population.

The Office of Refugee Resettlement (ORR) has available $49,477,000 in FY 2000 funds for the targeted assistance program (TAP) as part of the FY 2000 appropriation for the Department of Health and Human Services (Pub. L. No. 106-113).

The Director of the Office of Refugee Resettlement (ORR) proposes to use the $49,477,000 in targeted assistance funds as follows:

$44,529,300 will be allocated to States under the five-year population formula, as set forth in this notice.

$4,947,700 (10 percent of the total) will be used to award discretionary grants to States under a separate grant announcement.

The purpose of targeted assistance grants is to provide, through a process of local planning and implementation, direct services intended to result in the economic self-sufficiency and reduced welfare dependency of refugees through job placements.

The targeted assistance program reflects the requirements of section 412(c)(2)(B) of the Immigration and Nationality Act (INA), which provides that targeted assistance grants shall be made available “(i) primarily for the purpose of facilitating refugee employment and achievement of self-sufficiency, (ii) in a manner that does not supplant other refugee program funds and that assures that not less than 95 percent of the amount of the grant award is made available to the county or other local entity.”

II. Authorization

Targeted assistance projects are funded under the authority of section 412(c)(2) of the Immigration and Nationality Act (INA), as amended by the Refugee Assistance Extension Act of 1986 (Pub. L. No. 99-605), 8 U.S.C. 1522(c); section 501(a) of the Refugee Education Assistance Act of 1980 (Pub. L. No. 96-422), 8 U.S.C. 1522 note, insofar as it incorporates by reference with respect to Cuban and Haitian entrants the authorities pertaining to assistance for refugees established by section 412(c)(2) of the INA, as cited above; section 584(c) of the Foreign Operations, Export Financing, and Related Programs Appropriations Act, 1988, as included in the FY 1988 Continuing Resolution (Pub. L. No. 100-202), insofar as it incorporates by reference with respect to certain Amerasians from Vietnam the authorities pertaining to assistance for refugees established by section 412(c)(2) of the INA, as cited above, including certain Amerasians from Vietnam who are U.S. citizens, as provided under title II of the Foreign Operations, Export Financing, and Related Programs Appropriations Acts, 1989 (Pub. L. No. 100-461), 1990 (Pub. L. No. 101-167), and 1991 (Pub. L. No. 101-513).

III. Use of Funds

Targeted assistance funding must be used to assist refugee families to achieve economic independence in accordance with regulations at 45 CFR Part 400. The term “refugee” includes persons who meet all requirements of 45 CFR 400.43 (as amended by 65 FR 15409 (March 22, 2000)) and 45 CFR 401.2 (Cuban and Haitian entrants). In addition to the statutory requirement that TAP funds be used “primarily for the purpose of facilitating refugee employment” (section 412(c)(2)(B)(i)), funds awarded under this program are intended to help fulfill the Congressional intent that “employable refugees should be placed on jobs as soon as possible after their arrival in the United States” (section 412(a)(1)(B)(i) of the INA). Therefore, in accordance with 45 CFR 400.313, targeted assistance funds must be used primarily for employability services designed to enable refugees to obtain jobs with less than one year's participation in the targeted assistance program in order to achieve economic self-sufficiency as soon as possible. Under 45 CFR 400.316, a State may provide the same scope of services under targeted assistance as may be provided to refugees under 45 CFR 400.154 and 45 CFR 400.155, with the exception of 45 CFR 400.155(h). Targeted assistance services may continue to be provided after a refugee has entered a job to help the refugee retain employment or move to a better job. Targeted assistance funds may not be used for long-term training programs such as vocational training that last for more than a year or educational programs that are not intended to lead to employment within a year.

States may not provide services funded under this notice, except for referral and interpreter services, to refugees who have been in the United States for more than 60 months (five years).

In accordance with 45 CFR 400.314, States are required to provide targeted assistance services to refugees in the following order of priority, except in certain individual extreme circumstances: (a) Refugees who are cash assistance recipients, particularly long-term recipients; (b) unemployed refugees who are not receiving cash assistance; and (c) employed refugees in need of services to retain employment or to attain economic independence.

In accordance with 45 CFR 400.317, if targeted assistance funds are used for the provision of English language training, such training must be provided in a concurrent, rather than sequential, time period with employment or with other employment-related activities.

Refugees who are participating in TAP-funded or social services-funded employment services or have accepted employment are eligible for day care services for children. For an employed refugee, TAP-funded day care should be limited to one year after the refugee becomes employed. States and counties, however, are expected to use day care funding from other publicly funded mainstream programs as a prior resource and are encouraged to work with service providers to assure maximum access to other publicly funded resources for day care.

Reflecting section 412(a)(1)(A)(iv) of the INA, States must “ensure that women have the same opportunities as men to participate in training and instruction.” In addition, in accordance with 45 CFR 400.317, targeted assistance services must be provided, to the maximum extent feasible, in a manner that includes the use of bilingual/bicultural women on service agency staffs to ensure adequate service access by refugee women.

In accordance with 45 CFR 400.317, targeted assistance services must be provided in a manner that is culturally and linguistically compatible with a refugee's language and cultural background, to the maximum extent feasible. In light of the increasingly diverse population of refugees who are resettling in this country, refugee service agencies will need to develop practical ways of providing culturally and linguistically appropriate services to a changing ethnic population. Services funded under this notice must be refugee-specific services that are designed specifically to meet refugee needs and are in keeping with the rules and objectives of the refugee program. Vocational or job-skills training, on-the-job training, or English language training, however, need not be refugee-specific.

Finally, in order to provide culturally and linguistically compatible services in as cost-efficient a manner as possible in a time of limited resources, ORR strongly encourages States and counties to promote and give special consideration to the provision of services through coalitions of refugee service organizations, such as coalitions of Mutual Assistance Associations (MAAs), voluntary resettlement agencies, or a variety of service providers. ORR believes it is essential for refugee-serving organizations to form close partnerships in the provision of services to refugees in order to be able to respond adequately to a changing refugee picture. Coalition-building and consolidation of providers is particularly important in communities with multiple service providers in order to ensure better coordination of services and maximum use of funding for services by minimizing the funds used for multiple administrative overhead costs.

The award of funds to States under this notice will be contingent upon the completeness of a State's application as described in section VIII below.

IV. (Reserved for Discussion of Comments in the Final Notice)

V. Eligible Grantees

Eligible grantees are those agencies of State governments that are responsible for the refugee program under 45 CFR 400.5 in States containing counties that qualify for FY 2000 targeted assistance awards.

The Director of ORR proposes to determine the eligibility of counties for inclusion in the FY 2000 targeted assistance program on the basis of the method described in section VI of this notice.

The use of targeted assistance funds for services to Cuban and Haitian entrants are limited to States that have an approved State plan under the Cuban/Haitian Entrant Program (CHEP). The State agency will submit a single application on behalf of all county governments that are qualified counties in that State. Subsequent to the approval of the State's application by ORR, local targeted assistance plans will be developed by the county government or other designated entity and submitted to the State.

A State with more than one qualified county is permitted, but not required, to determine the allocation amount for each qualified county within the State. However, if a State chooses to determine county allocations differently from those set forth in the final notice, in accordance with § 400.319, the FY 2000 allocations proposed by the State must be based on the State's population of refugees who arrived in the U.S. during the most recent five-year period. A State may use welfare data as an additional factor in the allocation of its targeted assistance funds if it so chooses; however, a State may not assign a greater weight to welfare data than it has assigned to population data in its allocation formula. In addition, if a State chooses to allocate its FY 2000 targeted assistance funds in a manner different from the formula set forth in the final notice, the FY 2000 allocations and methodology proposed by the State must be included in the State's application for ORR review and approval.

Applications submitted in response to the final notice are not subject to review by State and area-wide clearinghouses under Executive Order 12372, “Intergovernmental Review of Federal Programs.”

VI. Qualification and Allocation

A. Qualification

The Director of ORR will determine the qualification of counties for targeted assistance once every three years, as stated in the FY 1999 notice of proposed availability of targeted assistance allocations to States which was published in the Federal Register on March 10, 1999 (64 FR 11927). Since ORR determined the qualification of counties for targeted assistance in FY 1999, those qualifying counties determined eligible in FY 1999 and listed in this notice as qualified to apply for FY 2000 TAP funding would remain qualified for TAP funding through FY 2001 on the basis of the most current five-year refugee/entrant arrival data. ORR does not plan to consider the eligibility of additional counties for TAP funding until FY 2002, when ORR will again review data on all counties that could potentially qualify for TAP funds.

B. Allocation Formula

Of the funds available for FY 2000 for targeted assistance, $44,529,300 would be allocated by formula to States for qualified counties based on the initial placements of refugees, Amerasians, entrants (including Havana parolees), and Kurdish asylees in these counties during the five-year period from FY 1995 through FY 1999 (October 1, 1994-September 30, 1999).

With regard to Havana parolees, in the absence of reliable data on the State-by-State resettlement of this population, we are crediting 47,805 Havana parolees who arrived in the U.S. during the past five years according to the Immigration and Naturalization Service (INS), using the following methodology. For FY 1999, we credited the qualifying counties with Havana parolees according to arrival numbers supplied to us by the Parolee Orientation Program funded by the International Affairs Office of the INS. For FY 1995 through FY 1998, the Havana parolees for each qualifying county in Florida are based on actual arrival data submitted by the State of Florida; Havana parolees credited to qualifying counties in other States were prorated based on the counties' proportion of the four-year (FY 1995 through FY 1998) entrant population in the U.S.

If a qualifying county does not agree with ORR's population estimate and believes that its five-year population for FY 1995-FY 1999 was undercounted and wishes ORR to reconsider its population estimate, the county must provide the following evidence: The county must submit to ORR a letter from each local voluntary agency that resettled refugees in the county that attests to the fact that the refugees/entrants listed in an attachment to the letter were resettled as initial placements during the five-year period from FY 1995-FY 1999 in the county making the claim. Documentation must include the name, alien number, date of birth and date of arrival in the U.S. for each refugee/entrant claimed. Listings of refugees who are not identified by their alien numbers will not be considered. Counties should submit such evidence separately from comments on the proposed formula no later than 30 days from the date of publication of this notice and should be addressed to: Loren Bussert, Division of Refugee Self-Sufficiency, Office of Refugee Resettlement, 370 L'Enfant Promenade, S.W., Washington, D.C. 20447; telephone, (202) 401-4732; E-mail: lbussert@acf.dhhs.gov. Failure to submit the required documentation within the required time period will result in forfeiture of consideration.

VII. Allocations

Table 1 lists the qualifying counties; the number of refugee (column 3) and entrant (column 4) arrivals in those counties during the five-year period from October 1, 1994-September 30, 1999; the number of Havana parolees (column 5) credited to each county during this period, the total number of arrivals; and the proposed amount of each county's allocation based on its five-year arrival population.

Table 1.—Proposed Targeted Assistance Allocations by County: FY 2000
County | State | Refugees ¹ | Entrants | Havana parolees ² | Total arrivals FY 1995-1999 | Total FY 2000 proposed
1Maricopa County | Arizona | 8,929 | 818 | 514 | 10,261 | $1,214,851
2 Fresno County | California | 1,799 | 2 | 1 | 1,802 | 213,348
3 Los Angeles County | California | 13,313 | 351 | 390 | 14,054 | 1,663,923
4 Orange County | California | 8,367 | 24 | 19 | 8,410 | 995,702
5 Sacramento County | California | 11,646 | 4 | 7 | 11,657 | 1,380,130
6 San Diego County | California | 6,973 | 397 | 344 | 7,714 | 913,299
7 San Francisco | California | 6,288 | 33 | 34 | 6,355 | 752,400
8 Santa Clara County | California | 8,322 | 47 | 37 | 8,406 | 995,228
9 Yolo County | California | 1,341 | 5 | 3 | 1,349 | 159,715
10 Denver County | Colorado | 3,085 | 1 | 5 | 3,091 | 365,959
11 District of Columbia | Dist. of Col | 3,626 | 15 | 14 | 3,655 | 432,734
12 Broward County | Florida | 788 | 1,402 | 1,277 | 3,467 | 410,475
13 Dade County | Florida | 7,870 | 26,214 | 37,721 | 71,805 | 8,501,350
14 Duval County | Florida | 4,236 | 21 | 51 | 4,308 | 510,046
15 Hillsborough County | Florida | 1,648 | 634 | 1,120 | 3,402 | 402,780
16 DeKalb County | Georgia | 7,902 | 12 | 9 | 7,923 | 938,043
17 Fulton County | Georgia | 5,145 | 196 | 153 | 5,494 | 650,462
18 Cook/Kane | Illinois | 15,790 | 368 | 297 | 16,455 | 1,948,189
19 Polk County | Iowa | 3,612 | 1 | 3 | 3,616 | 428,116
20 Jefferson County ³ | Kentucky | 3,813 | 1,353 | 621 | 5,787 | 685,152
21 Hampden County | Massachusetts | 2,281 | 9 | 6 | 2,296 | 271,835
22 Suffolk County | Massachusetts | 4,285 | 53 | 59 | 4,397 | 520,583
23 Ingham County | Michigan | 1,927 | 647 | 290 | 2,864 | 339,083
24 Kent County | Michigan | 2,836 | 73 | 34 | 2,943 | 348,436
25 Hennepin County | Minnesota | 6,601 | 3 | 4 | 6,608 | 782,354
26 Ramsey County | Minnesota | 2,024 | 10 | 7 | 2,041 | 241,644
27 City of St. Louis | Missouri | 8,606 | 1 | 1 | 8,608 | 1,019,144
28 Lancaster County | Nebraska | 2,378 | 38 | 25 | 2,441 | 289,002
29 Clark County ⁴ | Nevada | 1,566 | 1,261 | 867 | 3,694 | 437,351
30 Hudson County | New Jersey | 1,327 | 665 | 825 | 2,817 | 333,519
31 Bernalillo County | New Mexico | 1,051 | 1,006 | 828 | 2,885 | 341,570
32 Monroe County | New York | 2,730 | 833 | 453 | 4,016 | 475,474
33 New York | New York | 42,317 | 590 | 532 | 43,439 | 5,142,960
34 Oneida County | New York | 4,698 | 1 | 1 | 4,700 | 556,456
35 Guilford County | North Carolina | 2,430 | 7 | 11 | 2,448 | 289,831
36 Cass County | North Dakota | 1,791 | 3 | 2 | 1,796 | 212,637
37 Cuyahoga County | Ohio | 3,600 | 7 | 8 | 3,615 | 427,998
38 Multnomah | Oregon | 11,319 | 776 | 404 | 12,499 | 1,479,819
39 Erie County | Pennsylvania | 1,922 | 0 | 0 | 1,922 | 227,555
40 Philadelphia County | Pennsylvania | 4,833 | 44 | 37 | 4,914 | 581,793
41 Minnehaha County ⁵ | South Dakota | 1,592 | 0 | 0 | 01,592 | 188,485
42 Davidson County | Tennessee | 3,248 | 54 | 42 | 3,344 | 395,913
43 Dallas/Tarrant | Texas | 11,248 | 525 | 485 | 12,258 | 1,451,286
44 Harris County | Texas | 8,525 | 348 | 137 | 9,010 | 1,066,739
45 Davis/Salt Lake | Utah | 5,135 | 1 | 3 | 5,139 | 608,432
46 Fairfax County | Virginia | 3,152 | 7 | 10 | 3,169 | 375,194
48 City of Richmond | Virginia | 2,310 | 103 | 72 | 2,485 | 294,212
48 King/Snohomish | Washington | 13,378 | 51 | 34 | 13,463 | 1,593,952
49 Pierce County | Washington | 2,421 | 10 | 7 | 2,438 | 288,647
50 Spokane County | Washington | 3,255 | 0 | 1 | 3,256 | 385,494
Total |  | 289,279 | 39,024 | 47,805 | 376,108 | 44,529,300
¹ Refugees includes refugees, Kurdish asylees, and Amerasian immigrants from Vietnam.
² For FY 1999, the Havana parolees for all counties are based on actual data. For previous years, the Havana parolees of Florida counties are based on actual data, while parolees from other counties are prorated based on each county's proportion. of the four-year (FY 1995-1998) entrant population.
³ The allocation for Jefferson County, Kentucky will be awarded to the Kentucky Wilson/Fish project.
⁴ The allocation for Clark County, Nevada will be awarded to the Nevada Wilson/Fish.
⁵ The allocation for Minnehaha County, South Dakota will be awarded to the South Dakota Wilson/Fish project.

Table 2 provides State totals for proposed targeted assistance allocations.

Table 2.—Targeted Assistance Proposed Allocations by State: FY 2000
State | FY 2000
Arizona | $1,214,851
California | 7,073,745
Colorado | 365,959
District of Columbia | 432,734
Florida | 9,824,651
Georgia | 1,588,505
Illinois | 1,948,189
Iowa | 428,116
Kentucky | 685,152
Massachusetts | 792,418
Michigan | 687,519
Minnesota | 1,023,998
Missouri | 1,019,144
Nebraska | 289,002
Nevada | 437,351
New Jersey | 333,519
New Mexico | 341,570
New York | 6,174,890
North Carolina | 289,831
North Dakota | 212,637
Ohio | 427,998
Oregon | 1,479,819
Pennsylvania | 809,348
South Dakota | 188,485
Tennesee | 395,913
Texas | 2,518,025
Utah | 608,432
Virginia | 669,406
Washington | 2,268,093
Total | $44,529,300

VIII. Application and Implementation Process

States that are currently operating under approved management plans for their FY 1999 targeted assistance program and wish to continue to do so for their FY 2000 grants may provide the following in lieu of resubmitting the full currently approved plan:

The State's application for FY 2000 funding shall provide:

• Assurance that the State's current management plan for the administration of the targeted assistance program, as approved by ORR in FY 1999, will continue to be in full force and effect for the FY 2000 targeted assistance program, subject to any additional assurances or revisions required by this notice which are not reflected in the current plan. Any proposed modifications to the approved plan will be identified in the application and are subject to ORR review and approval, e.g., if the State assumes local administration of the program or if the State chooses to determine county allocations differently. Any proposed changes must address and reference all appropriate portions of the FY 1999 application content requirements to ensure complete incorporation in the State's management plan.

• A line item budget and justification for State administrative costs limited to a maximum of five percent of the total award to the State. Each total budget period funding amount requested must be necessary, reasonable, and allocable to the project.

• All applicants must submit targeted assistance performance goals as described under Section IX.

IX. Results or Benefits Expected

All applicants must establish targeted assistance proposed performance goals for each of the six ORR performance outcome measures for each targeted assistance county's proposed service contract(s) or sub-grants for the next contracting cycle. Proposed performance goals must be included in the application for each performance measure. The six ORR performance measures are: entered employments, cash assistance reductions due to employment, cash assistance terminations due to employment, 90-day employment retentions, average wage at placement, and job placements with available health benefits. Targeted assistance program activity and progress achieved toward meeting performance outcome goals are to be reported quarterly on the ORR-6, the “Quarterly Performance Report.”

X. Reporting Requirements

States will be required to submit quarterly reports on the outcomes of the targeted assistance program, using the same form which States use for reporting on refugee social services formula grants. This is Schedule A and Schedule C, pages 1 and 2 of the ORR-6 Quarterly Performance Report form (OMB #0970-0036).

XI. The Paperwork Reduction Act of 1995 (Pub. L. 104-13)

This notice does not create any reporting or recordkeeping requirements requiring OMB clearance.

Catalog of Federal Domestic Assistance (CFDA) Number: 93.584
Dated: April 25, 2000.
Lavinia Limón
Director, Office of Refugee Resettlement.

[FR Doc. 00-10782 Filed 4-28-00; 8:45 am]

BILLING CODE 4184-01-P